DEPARTMENT OF DEFENSE

48 CFR Parts 202, 215, 219, 242, and 246, and Appendix G to Chapter 2

Defense Federal Acquisition Regulation Supplement; Technical Amendments

AGENCY: Department of Defense (DoD).

ACTION: Final rule.

SUMMARY: DoD is making technical amendments to the Defense Federal Acquisition Regulation Supplement to update activity names and addresses, to reflect the extension of a memorandum of understanding, and to delete text that duplicates text found in the Federal Acquisition Regulation.

EFFECTIVE DATE: January 29, 2002.

FOR FURTHER INFORMATION CONTACT: Ms. Michele Peterson, Defense Acquisition Regulations Council, OUSD(AT&L)DP(DAR), IMD 3C132, 3062 Defense Pentagon, Washington, DC 20301-3062. Telephone (703) 602-0311; facsimile (703) 602-0350.

List of Subjects in 48 CFR Parts 202, 215, 219, 242, and 246

Government procurement.

Michele P. Peterson,
Executive Editor, Defense Acquisition Regulations Council.

Therefore, 48 CFR Parts 202, 215, 219, 242, and 246, and Appendix G to Chapter 2 are amended as follows:

1. The authority citation for 48 CFR Parts 202, 215, 219, 242, and 246, and Appendix G to subchapter I continues to read as follows:

Authority: 41 U.S.C. 421 and 48 CFR Chapter 1.

PART 202—DEFINITIONS OF WORDS AND TERMS

202.101 [Amended]

2. Section 202.101 is amended in the definition of “Contracting activity”, under the heading “NAVY” as follows:

a. By removing the entry “Headquarters, U.S. Marine Corps”; and

b. In the entry “Marine Corps Material Command” by revising “Material” to read “Materiel”.

PART 215—CONTRACTING BY NEGOTIATION

215.404-76 [Amended]

3. Section 215.404-76 is amended in paragraph (b), in the table, under the Heading “ARMY”, by removing “U.S. Army, Contracting Support Agency, ATTN: SARD-RS, 5109 Leesburg Pike, Suite 916” and adding in its place “Headquarters, Department of the Army, ATTN: SAAL-PA, Skyline 6, Suite 302, 5109 Leesburg Pike”.

PART 219—SMALL BUSINESS PROGRAMS

219.800 [Amended]

4. Section 219.800 is amended in paragraph (a), in the third sentence, by removing “December 31, 2001” and adding in its place “March 31, 2002”.

PART 242—CONTRACT ADMINISTRATION AND AUDIT SERVICES

5. Section 242.1203 is amended in paragraph (b)(2)(A) by revising the Navy entry to read as follows:

242.1203 Processing agreements.

(b)(2)(A) * * *

Navy | Office of the Assistant Secretary of the Navy, Research, Development & Acquisition, Acquisition and Business Management, 2211 South Clark Place, Room 578, Arlington, VA 22202-3738.

* * * * *

PART 246—QUALITY ASSURANCE

246.407 [Amended]

6. Section 246.407 is amended by removing paragraphs (1) and (2).

Appendix G—Activity Address Numbers

7. Appendix G to Chapter 2 is amended in Part 3 by adding a new entry “N39826”, and by removing entry “N62913” the second time it appears. The added text reads as follows:

PART 3—NAVY ACTIVITY ADDRESS NUMBERS

* * * * *

N39826, L5L Fleet and Industrial Supply Center, Norfolk Detachment Earle, 201 Highway 34 South, Building C-33, Colts Neck, NJ 07722-5019

* * * * *

[FR Doc. 02-2054 Filed 1-28-02; 8:45 am]

BILLING CODE 5001-08-U